DEPARTMENT OF COMMERCE

National Oceanic and Atmospheric Administration

RIN 0648-XF862

Endangered Species; File No. 21367

AGENCY: National Marine Fisheries Service (NMFS), National Oceanic and Atmospheric Administration (NOAA), Commerce.

ACTION: Notice; receipt of application.

SUMMARY: Notice is hereby given that Christopher Marshall, Ph.D., Texas A&M University at Galveston, 200 Seawolf Parkway, Galveston, TX 77553, has applied in due form for a permit to take Kemp's ridley (Lepidochelys kempii), green (Chelonia mydas), hawksbill (Eretmochelys imbricata), and loggerhead (Caretta caretta) sea turtles for purposes of scientific research.

DATES: Written, telefaxed, or email comments must be received on or before January 22, 2018.

ADDRESSES: The application and related documents are available for review by selecting “Records Open for Public Comment” from the “Features” box on the Applications and Permits for Protected Species (APPS) home page, https://apps.nmfs.noaa.gov, and then selecting File No. 21367 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Erin Markin, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant proposes to study Kemp's ridley, green, hawksbill and loggerhead sea turtles in the western Gulf of Mexico and along the Texas coast. The purpose of the work is to characterize the movement, habitat use, foraging ecology, and health of sea turtles using these areas. Up to 55 Kemp's ridley, 55 green, 10 hawksbill, and 55 loggerhead sea turtles annually would be captured by hand, dip net, tangle net or cast net. Upon capture, researchers would examine; photograph; apply a temporary carapace mark; collect morphometric data; scute, blood and tissue biopsy; and flipper and passive integrated transponder tag each turtle before release. A subset of animals for each species except hawksbills would also receive either (1) a satellite tag and a separate acoustic transmitter or (2) a 3D dive profile-video tag. The permit would be valid for up to five years from the date of issuance.

Dated: December 18, 2017.
Julia Harrison,
Chief, Permits and Conservation Division, Office of Protected Resources, National Marine Fisheries Service.

[FR Doc. 2017-27488 Filed 12-20-17; 8:45 am]

BILLING CODE 3510-22-P